DEPARTMENT OF TRANSPORTATION

Surface Transportation Board

[STB Finance Docket No. 34828]

Gregg Haug—Continuance in Control Exemption—Northern Plains Railroad, Inc., Mohall Railroad, Inc. and Mohall Central Railroad, Inc.

AGENCY: Surface Transportation Board.

ACTION: Notice of exemption.

SUMMARY: The Board grants an exemption, under 49 U.S.C. 10502, from the prior approval requirements of 49 U.S.C. 11323 for Gregg Haug, an individual, to continue in control of three Class III rail carriers: Northern Plains Railroad, Inc. (NPR), Mohall Railroad, Inc. (MRI), and Mohall Central Railroad, Inc. (MHC). Each of the foregoing corporations owns or operates rail lines located in whole or in major part within the State of North Dakota.

DATES: This exemption will be effective on June 14, 2006. Petitions to stay must be filed by May 30, 2006. Petitions to reopen must be filed by June 9, 2006.

ADDRESSES: Send an original and 10 copies of all pleadings, referring to STB Finance Docket No. 34828 to: Surface Transportation Board, 1925 K Street, NW., Washington, DC 20423-0001. In addition, send one copy of pleadings to Mark S. Radke, of Felhaber, Larson, Fenlon & Vogt, P.A., 220 South Sixth Street, Suite 2200, Minneapolis, MN 55402.

FOR FURTHER INFORMATION CONTACT: Joseph H. Dettmar, (202) 565-1609 [assistance for the hearing impaired is available through the Federal Information Relay Service (FIRS) at 1-800-877-8339].

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339].

Board decisions and notices are available on our Web site at “http://www.stb.dot.gov”.

Decided: May 9, 2006.
By the Board, Chairman Buttrey and Vice Chairman Mulvey.
Vernon A. Williams,
Secretary.

[FR Doc. E6-7329 Filed 5-12-06; 8:45 am]

BILLING CODE 4915-01-P